CORPORATION FOR NATIONAL AND COMMUNITY SERVICE

Availability of Funds for National Service-Learning Clearinghouse

AGENCY: Corporation for National and Community Service.

ACTION: Notice of availability of funds.

SUMMARY: The Corporation for National and Community Service (hereinafter the “Corporation”) announces the availability of approximately $300,000 to support the initial phase of a cooperative agreement of up to three years to provide National Service-Learning Clearinghouse services. We expect that the initial funding will represent roughly one-half of the first year's budget. The Corporation will enter into a cooperative agreement with the organization selected under this Notice to provide service-learning Clearinghouse services to grantees and subgrantees supported by the Corporation and to the service-learning field. This will include: (A) Overall Administration of the Clearinghouse activities; (B) Technology Management, which includes operation and staffing of toll-free telephone lines and assistance, databases, listservs, and a web site; and (C) Information Management, which includes library service functions such as: collecting, organizing, analyzing, abstracting and disseminating information and materials about service-learning principles, programs, effective practices, resources, and research.

The Clearinghouse will collect and disseminate information and materials related to service-learning. Pertinent subtopics include service-learning in and partnerships among: K-12 schools; higher education institutions; community-based organizations; Indian Tribes and U.S. territories, especially Learn and Serve America grantees and subgrantees; and AmeriCorps, National Senior Service Corps and other programs and projects involved in service-learning.

Note: This notice concerns the selection of an organization to provide service-learning Clearinghouse services. This is not a notice for program grant proposals.

DATES: Conference call: A conference call is scheduled for those who have questions related to this competition. The date and time is: Tuesday, December 19, 2000, 3 p.m. Eastern Time. To sign up for this conference call, please call Pat Carpenter at 1-202-606-5000, ext. 209 by Friday, December 15, 2000, at 12 noon.

Due date: Proposals must be received by the Corporation by 5 p.m. Eastern time on Friday, January 26, 2001.

ADDRESSES: Submit proposals to the Corporation for National and Community Service, Attention: Juanita Peoples, Room 8404-B, Box NSLC, 1201 New York Avenue, NW, Washington, DC 20525.

FOR FURTHER INFORMATION CONTACT: Brad Lewis at the Corporation for National and Community Service, telephone (202) 606-5000, ext. 113, (BLewis@cns.gov), facsimile (202) 565-2781. This Notice is available on the Corporation's web site, at: http://www.nationalservice.org/whatshot/notices/.

SUPPLEMENTARY INFORMATION:

I. Background

The Corporation was established in 1993 to engage Americans of all ages and backgrounds in service to their communities. (See 42 U.S.C. 12501, et seq.) The Corporation's national and community service programs provide opportunities for participants to serve full-time and part-time, with or without stipend, as individuals or as part of a team. Learn and Serve America integrates community service into the academic life or experiences of more than one and a half million youth from kindergarten through higher education in all 50 states, Indian Tribes and U.S. territories, through grants to state education agencies, community-based organizations, and higher education institutions and organizations. AmeriCorps*State, National, VISTA, and National Civilian Community Corps programs engage thousands of Americans on a full-time or part-time basis, at over 1,000 locations, to help communities meet their toughest challenges. The National Senior Service Corps utilizes the skills, talents and experience of over 500,000 older Americans to help make communities stronger, safer, healthier and smarter. For additional information on the national service programs supported by the Corporation, see the “Glossary of Terms” in Section VI of this Notice or go to http://www.nationalservice.org.

II. Eligibility

Public-sector agencies, non-profit organizations, institutions of higher education, and Indian Tribes that: (1) Have extensive experience with administering library and/or Clearinghouse services, and (2) have knowledge of service-learning, are eligible to apply. Pursuant to the Lobbying Disclosure Act of 1995, an organization described in section 501(c)(4) of the Internal Revenue Code of 1986, 26 U.S.C. 501(c)(4), which engages in lobbying, is not eligible to apply.

The successful applicant must be a strong administrative entity that offers Clearinghouse services to grantees and the public as “one-stop-shopping” through a single comprehensive website and a toll-free telephone line. It may be necessary, therefore, for applicants to consider planning to work in conjunction with a small number of other organizations to obtain needed expertise. The Corporation wants to minimize the administrative time, effort, and cost associated with managing multiple agreements in the operation of the Clearinghouse and, therefore, values concentration of duties in a minimum number of organizations. Whatever the number of organizations involved, the Corporation requires that the successful applicant and the other organizations present the Clearinghouse to the public as a single entity funded by and working with the Corporation.

A successful applicant must demonstrate an exemplary track record in all relevant areas outlined below, as well as the capacity to handle all tasks with or without contracting for needed services. An applicant that proposes to work in conjunction with others should outline a plan to select, monitor and administer those organizations, including assessing their expertise, and determining the role they will play in meeting the requirements of this Notice. For example (and this is only an example, not a recommendation or requirement), an applicant might have in-house exemplary expertise and capacity in library science and information technology, and may plan to select organizations with exemplary expertise and capacity in school-based service-learning (including tribal service-learning), higher education service-learning, and community-based service-learning. Alternatively, an applicant might have exemplary expertise and capacity in two or more of these areas, thereby reducing the number of organizations involved. In any case, an applicant must indicate in the application its intention to work with other organizations. We anticipate that the successful applicant will select any other organizations within three months of the award. All proposed arrangements with other organizations are subject to Corporation review and approval. Organizations may provide Clearinghouse services even if they are also receiving or applying for other Corporation funds.

Based on previous Clearinghouse competitions and our estimate of potential applicants, we expect fewer than ten applications to be submitted.

III. Conditions

A. Legal Authority

Section 118 of the National and Community Service Act of 1990, as amended, 42 U.S.C. 12551, authorizes the Corporation to establish a Clearinghouse with respect to information about service-learning. Section 198 of the same Act, as amended, 42 U.S.C. 12653, authorizes the Corporation to provide training and technical assistance in support of activities under the national service laws.

B. Cooperative Agreements

The award made under this Notice will be in the form of a cooperative agreement. Administration of cooperative agreements is pursuant to Uniform Administrative Requirements in Corporation regulations, 45 CFR Part 2541 (for agreements with state and local government agencies) and 45 CFR Part 2543 (for agreements with institutions of higher education, hospitals and other non-profit organizations). The awardee must comply with semi-annual program and fiscal reporting requirements, linking progress on deliverables to expenditures.

C. Time Frame and Funding

The Corporation expects that activities funded under the agreement awarded through this Notice will commence on or about April 1, 2001, following the conclusion of the selection and award process. The Corporation will make an award covering a period not to exceed three years. Applications must include a proposed budget and proposed activities for three years, with a line-item budget and detailed workplan for the first one-year budget period only. Of the funds available for this award $300,000 is presently available. We expect that the initial funding will represent roughly one-half of the first year's budget. If the Corporation approves an application and enters into a multi-year award agreement, at the outset it will provide funding based only on funds presently available for the first year's budget, with the balance of the funding for the first year's budget and the subsequent years pending the availability of funding from Congressional appropriations for Fiscal Year 2002 and subsequent years. Additional funding is contingent upon satisfactory performance, availability of funds, and any other criteria established in the award agreement.

D. Collection and Use of Materials—Reservation of Rights

To ensure that Clearinghouse library materials collected and generated with Corporation funding for training and technical assistance purposes remain available to the public and readily accessible to grantees and sub-grantees: (1) The awardee will be the custodian of the materials purchased or otherwise obtained for the Clearinghouse library of service-learning information and only for the duration of the cooperative agreement; and (2) the Corporation retains royalty-free, non-exclusive, and irrevocable licenses to use, reproduce, publish, or disseminate publications and materials, including data, produced under the agreement, and to authorize others to do so. The awardee must agree to make publications and materials available to the national service field as identified by the Corporation at no cost or at the cost of reproduction. All materials collected and developed for the Corporation must comply with Corporation editorial and publication guidelines. The Clearinghouse is required to make reasonable accommodation for individuals with disabilities who seek to access the Clearinghouse.

IV. Scope of National Service-Learning Clearinghouse Activities To Be Supported

A. Essential Functions and Deliverables

The organization selected under this Notice will provide service-learning Clearinghouse services to Corporation grantees and their sub-grantees, comprising Learn and Serve America programs, AmeriCorps and National Senior Service Corps programs, as well as the general public. This will include: (A) Overall Administration of the Clearinghouse activities; (B) Technology Management, which includes operation and staffing of toll-free telephone lines and assistance, databases, listservs, and a web site; and (C) Information Management, which includes library functions such as: collecting, organizing, analyzing, abstracting and disseminating information and materials about service-learning principles, programs, effective practices, resources, and research. Specific essential functions and deliverables include:

1. Library—Maintain, continuously expand and update the existing Clearinghouse library of high-quality service-learning program and training designs, supporting materials, videos, CD-Roms, curricula, models, effective practices, research and evaluation reports, books, monographs, and periodical literature (not necessarily all physically housed in one place) with web-accessible annotated bibliographies and abstracts.

2. Web Site—Operate, maintain and improve a state-of-the-art, easily navigable World Wide Web site (the point of access for the majority of Clearinghouse users) providing service-learning resources including, but not limited to: a searchable database of abstracted archive holdings; on-line versions of available current printed materials (including papers, articles, essays and other media); a calendar of service-learning events; chat rooms or other web-based communication methods; a directory of Learn and Serve America grantee and subgrantee program information; and a user-friendly annotated list of links to other websites, thereby presenting the Clearinghouse as a primary resource for service-learning on the Web (current site: http://umn.edu/serve).

3. Toll-free telephone lines—Operate and maintain toll-free telephone lines and assistance, accessible nationwide.

4. Program Database—Maintain and update, in collaboration with the Corporation, the existing database of approximately 2,000 Learn and Serve America grantees and subgrantees, searchable through the Clearinghouse website, including program descriptions and aggregate program and participant characteristics.

5. Listservs—Manage listservs of grantees and others with regular postings to stimulate service-learning conversation, share information, and draw attention to upcoming events and new publications (including approximately six lists currently being hosted) and maintain a searchable archive.

6. Marketing—Develop and implement a proactive and cost-effective marketing plan and information dissemination plan for the Clearinghouse and build relationships with the client base. The Corporation expects the Clearinghouse provider to develop and execute effective strategies for working with key service-learning stakeholders, other federal initiatives, and the field.

7. Frequently Asked Questions—Produce at least bi-weekly “Frequently Asked Questions” (FAQs) and answers focusing on pertinent issues and available related resources; publish FAQs on appropriate listservs and make them available in archives on the website and hardcopy.

8. Journal—Publish an annual service-learning journal or monograph with a circulation of at least 7,000, utilizing Learn and Serve America grantees as authors and editorial board members, focusing on themes around current issues in policy and practice in school-based, higher education, and/or community-based service-learning.

9. Collaboration—Collaborate with the National Service-Learning Exchange (the Exchange) and other Corporation-funded national training and technical assistance providers to develop and maintain a system for referring Clearinghouse clients whose needs require training or technical assistance beyond the scope of Clearinghouse responsibilities. In addition, collaborate with the Exchange and other experts to identify and address the field's information needs and resources.

10. Evaluation—Evaluate the impact of Clearinghouse services. Evaluation should focus on client satisfaction with both ease of access and usefulness of information. The evaluation should assess quality and quantity of Clearinghouse services provided, including, but not limited to: website effectiveness and use; on-line and telephone consultation; and materials dissemination in accordance with the essential functions and deliverables of this Notice.

11. Accessible Materials and Services—Provide materials that are accessible to persons with disabilities, and incorporate into all activities planning for needs of clients without Internet access, by using accessible technology, providing materials in alternate formats upon request, captioning videos, and not relying solely on a non-voice-over format, and, when indicating a telephone number, by including a non-voice telephone alternative such as TTY/TDD or e-mail.

12. Wide Range of Materials and Services—Design services that cover a range of basic to advanced topics that can reach and benefit clients who are at different levels of expertise and who may come from a variety of organizations, including remote programs and/or programs in rural areas.

13. Other Activities—Carry out such other activities as the Corporation and the provider reasonably determine to be appropriate.

B. Other Requirements

1. Staff and Consultant Training—Train Clearinghouse staff and consultants as necessary in the background, approach, vocabulary, assets, needs, and objectives of the Corporation and each of its program streams and substreams. (See Section VI, “Glossary of Terms.”)

2. Independent Assessment—In addition to reviewing records submitted by the provider, the Corporation may conduct independent assessments of the provider's performance and expect the provider's cooperation with reasonable requests in this regard.

3. Corporation Meetings—Participate as requested by the Corporation in the planning and implementation of meetings and training events.

4. Collaboration with Others—Collaborate with and support the National Service-Learning Leader Schools program, and the President's Student Service Challenge program, wherever feasible and appropriate, and share effective practices with other providers through the training and technical assistance listserv and other mechanisms (e.g., the National Service Resource Center see: http://www.etr.org/NSRC/index.html), and coordinate with other providers in order to avoid duplication.

5. Communications with Corporation Staff—With the Corporation's Clearinghouse Program Officer, develop a plan for on-going communication with the Corporation regarding Clearinghouse activities and the needs of the field.

6. Attribution—Identify the Corporation for National Service as primary sponsor of all Clearinghouse materials and activities in all print, electronic and other communications.

7. Adherence to Circulars—Adhere to all applicable Office of Management and Budget (OMB) circulars.

V. Application Guidelines

A. Proposal Content and Submission.

You must submit one (1) unbound, original proposal and two (2) copies. You must complete the Standard Form 424 (SF 424)—Application for Federal Assistance, Standard Form 424A (SF 424A)—Budget Forms, and Standard Form 424B (SF 424B)—Assurances. These forms are available on the web at: http://www.nationalservice.org/whatshot/notices. An outline, which must be included, is limited to two pages, while the remainder of this section may be up to 20 additional double-spaced, single-sided, typed pages with at least one inch margins and no smaller than 12-point font. Proposals may not be submitted by facsimile. Proposals must include the following:

1. Outline.

A one-to-two page outline of all proposed Clearinghouse activities and materials including a schematic diagram outlining the task and information flow for the proposed design.

2. Information Collection/Organization/Marketing/Dissemination Plan.

Applications must include:

a. Proposed Strategy: The applicant's proposed strategy and supporting rationale for providing service-learning Clearinghouse services to a diverse national audience. The applicant should address the specific deliverables and requirements outlined in Section IV—Scope of National Service-Learning Clearinghouse Activities of this Notice. An application that proposes to work in conjunction with other organizations must outline a plan to select, monitor and administer these organizations, including assessing the organization's expertise, and determining the role they will play in meeting the requirements of this Notice.

b. Work Plan: A detailed one-year work plan and timeline for completing all Clearinghouse activities. The work plan should include all deliverables and the tasks leading to them. The work plan should account for necessary start-up activities, including the transfer of the Clearinghouse collection of print, video, and other library materials, as well as electronic files, from the current provider.

c. Evaluation Plan: A plan for regularly evaluating performance and reporting findings and proposed improvements to the Corporation.

3. Description of Organizational Capacity

a. Organizational Chart: An organizational chart that clearly shows the place of the Clearinghouse provider in its parent organization's structure, as well as that of other relevant units of the parent organization, and the proposed relationship of any organizations to the provider.

b. Organizational Capacity Narrative:

Describe your:

i. capacity to provide nationwide Clearinghouse services, as outlined in this notice, under the direction of a single administrative entity;

ii. capacity to collect and disseminate information and materials related to service-learning or plan to contract with organizations having specific recognized capacity to complement the provider's experience to address all essential functions effectively;

iii. capacity in modern information systems, including website design and management, listserv management, database management, fax on demand and print-scanning capacity, or a plan to contract with organizations having specific recognized capacity to provide these services;

iv. knowledge of and/or experience with service-learning in: K-12 schools; higher education institutions; community-based organizations; Tribes and U.S. territories, especially Learn and Serve America grantees and subgrantees; and AmeriCorps, National Senior Service Corps and other programs and projects involved in service-learning;

v. financial management capacity to operate the Clearinghouse; and

vi. staff strengths and backgrounds. (Resumes shall be included in an appendix; this information is not subject to the page limits that are otherwise applicable.)

4. Budget

Include a detailed, line-item budget for the first year with hours and costs organized by activities and deliverables outlined in the main strategy and work plan narrative, and a projected overall budget for the second and third years. Use Standard Form 424B for the first year budget information. This form does not count towards the 20-page limit. Financial reporting throughout the term of the cooperative agreement must be organized so that all costs are attributed to specific activities and deliverables. Costs in proposed budgets must consist solely of costs allowable under applicable cost principles found in OMB Circulars A-21, A-122, and/or A-87, as appropriate. [OMB website:— http://www.whitehouse.gov/OMB/Circulars/index.html] Provider match is not required. The Corporation welcomes, however, any evidence that its funding leverages other resources.

5. Budget Narrative

Provide a budget narrative that is organized to parallel all items in the line-item budget and that includes the explanation and cost basis for all cost estimates that appear in the line-item budget. The narrative should clearly show how each cost was derived, using equations to reflect all factors considered, including unit costs of deliverables, where applicable.

6. Appendices (No more than 5 items.)

Items may include:

i. A list of references that can be contacted related to this work;

ii. Referral to the address of an applicant-designed web site;

iii. A brochure or other publicity item, and/or

iv. Staff resumes.

(Do not submit video or cassette tapes.)

B. Selection Criteria

To ensure fairness to all applicants, the Corporation reserves the right to disqualify any proposal that fails to comply with the requirements relating to submission deadline, page limits, line spacing, margins and font size. The Corporation will assess qualified applications based on the criteria listed below. Staff may conduct interviews in person or through conference calls before recommending an organization for approval. Following the review process, we will notify applicants of their status in writing.

1. Quality of Plan (30%)

The Corporation will consider the quality of the proposed activities based on:

a. Soundness of Proposed Strategy: Evidence of the cost-effectiveness, comprehensiveness, and creativity of applicant's approach to providing services as described in this Notice.

b. Understanding of the Corporation's Programs: Evidence of the applicant's understanding and ability to meet the Corporation's service-learning Clearinghouse essential functions as outlined in this Notice, the goals of the Department of Service-Learning, and the goals of the Corporation for National Service (see Section VI. “Glossary” and the Corporation for National Service website: www.nationalservice.org).

2. Organizational and Personnel Capacity (40%)

The Corporation will consider the organizational capacity of the applicant to deliver the proposed services based on:

a. Organizational and Staff Experience: Evidence of organizational and staff capability and experience in administration, delivery of high-quality information services in a flexible, responsive, collaborative and creative manner, and experience or knowledge of service-learning.

b. Grant Experience: Demonstrated ability either to manage federal funding or to otherwise apply sound fiscal management principles to grants and cost accounting.

3. Evaluation (10%)

The Corporation will consider how the applicant plans to evaluate its work based on:

a. Scope of Plan—Assessment of the effectiveness of—and need for—its services and products delivered under the award, which may include a review of stakeholder satisfaction, a survey of users, and/or a feedback section on the website.

b. Continuous Improvement—Plans to use assessments of its services and products to modify and improve subsequent services and products.

4. Budget (20%)

The Corporation will consider the budget based on:

a. Cost-effectiveness: Cost of each proposed activity in relation to the scope and depth of the services proposed. A demonstrated commitment to providing services in the most cost-effective manner possible will be a major consideration in the evaluation of proposals.

b. Scope: Comprehensiveness of the budget related to the proposed Clearinghouse activity (e.g., publications, website improvements, listserv interventions, etc.).

c. Clarity: The thoroughness of the budget and budget narrative, including the basis for all cost estimates (see specifications under “Budget Narrative”).

VI. Glossary of Terms

Department of Service-Learning Long-Term Goals

The Corporation's Department of Service-Learning (DSL) long-term goals are to:

DSL 1. Identify, enhance, and promote the direct and demonstrable “getting things done” outcomes of student service and service-learning.

DSL 2. Identify, enhance, and promote the community-strengthening outcomes of student service and service-learning.

DSL 3. Identify, enhance, and promote the participant development outcomes of student service and service-learning.

DSL 4. Facilitate the progression from community service to quality service-learning within and across the sectors of Learn and Serve America, throughout the field of service-learning and within the streams of national service.

DSL 5. Increase the number of individuals who participate in service-learning including but not limited to all relevant stakeholders, and especially the participation of students in service-learning from kindergarten through higher education.

DSL 6. Foster, strengthen, and identify civic participation as an outcome of service-learning.

DSL 7. Improve the quality and practice of service-learning through professional and leadership development.

DSL 8. Engage, support, and recognize youth and students as leaders in the design and implementation of effective student service and service-learning initiatives.

While we refer to our participants as students, we encompass all youth, parents, educators and adult volunteers in our goals and priorities.

Grantees

Entities funded directly by the Corporation. These include and are not limited to: state commissions; state education agencies; Indian Tribes and U.S. Territories; AmeriCorps National Direct parent organizations; institutions, consortia and organizations of higher education; local governments; and non-profit organizations. Many grantees also subgrant a significant portion of their funds to others (e.g., a State Commission conducts a competition and review process and funds AmeriCorps programs throughout a State; a State Education Agency (SEA) conducts a competition and review process and funds school systems throughout a state). None of the 1,300 Senior Corps grantees is permitted to subgrant.

National Service-Learning Exchange

The National Service-Learning Exchange, led by the National Youth Leadership Council, supports service-learning programs in schools, institutions of higher education, and community organizations through peer-based training and technical assistance. The Exchange links programs with local peer mentors, refers programs to regional trainers, and informs programs of regional service-learning events and initiatives. http://www.lsaexchange.org/

National Service Resource Center (NSRC)

The National Service Resource Center (NSRC) serves as a repository of information on all aspects of national service. The NSRC manages most of the Corporation's listservs and its web site includes a calendar of training events and links to all current providers. The NSRC also has a lending library. Training and technical assistance publications are posted or distributed by the NSRC. Providers must be required to submit copies of their training materials and training scripts to the National Service Resource Center. http://www.etr.org/NSRC/index.html.

Service-Learning

The Corporation uses the definition provided in the National and Community Service Trust Act of 1993 (section 101 (23); 42 U.S.C. 12511 (23)), which defines service-learning as an educational method:

• Under which students or participants learn and develop through active participation in thoughtfully organized service that is conducted in and meets the needs of a community;

• That is coordinated within an elementary school, secondary school, institution of higher education, or community service program, and with the community;

• That helps foster civic responsibility;

• That is integrated into and enhances the academic curriculum of the students, or the educational components of the community service program in which the participant is enrolled; and

• That provides structured time for the students or participants to reflect on the service experience.

Streams of Service

Refers to the Corporation's three main programs: AmeriCorps, Learn and Serve America and National Senior Service Corps.

Subgrantees

Many Corporation grantees competitively award a significant portion of their funds to other entities known as subgrantees. State Commissions, for example, subgrant to local non-profit organizations. Senior Corps programs do not subgrant (see “Grantees”).

Substream of Service

Refers to the categories within each of the above streams and includes the following:

AmeriCorps: AmeriCorps*State; AmeriCorps*National Direct; AmeriCorps*VISTA; AmeriCorps*National Civilian Community Corps.

Learn and Serve America: Learn and Serve America K-12 School-Based, Community-Based Programs and Tribal Programs; Learn and Serve America Higher Education Programs.

National Senior Service Corps: Foster Grandparent Program; Retired and Senior Volunteer Program (RSVP); Senior Companion Program.

Training and Technical Assistance Listserv: Currently managed by the National Service Resource Center, the training and technical assistance listserv is one of the ways providers share best practices with one another. Providers also share effective practices through the National Service Resource Center and the National Service-Learning Clearinghouse.

(Catalog of Federal Domestic Assistance: #94.004 Learn and Serve America—School- and Community-Based Programs. #94.005 Learn and Serve America—Higher Education)
Dated: December 6, 2000.
Amy Cohen,
Acting Director, Department of Service-Learning, Corporation for National and Community Service.

[FR Doc. 00-31534 Filed 12-11-00; 8:45 am]

BILLING CODE 6050-28-P